DEPARTMENT OF TRANSPORTATION

Federal Aviation Administration

14 CFR Part 71

[Docket No. FAA-2024-0053; Airspace Docket No. 23-AWA-5]

RIN 2120-AA66

Amendment of Class C Airspace; Fort Lauderdale-Hollywood International Airport, FL

AGENCY: Federal Aviation Administration (FAA), DOT.

ACTION: Final rule.

SUMMARY: This action amends the Fort Lauderdale-Hollywood International Airport, FL (FLL), Class C airspace by subdividing the southwest corner of Area E to reduce the lateral boundary of the FLL Class C airspace by creating a new “Area H” southwest of the existing Area E with a floor of 2,600 feet mean sea level (MSL) and a ceiling of 4,000 feet MSL. The FAA is making this amendment to enhance safety and enable more efficient operations for non-participating aircraft operations at North Perry Airport, FL (HWO). Additionally, this action makes multiple minor editorial amendments to the airspace description.

DATES: Effective date 0901 UTC, December 26, 2024. The Director of the Federal Register approves this incorporation by reference action under 1 CFR part 51, subject to the annual revision of FAA Order 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies terminal airspace as required to preserve the safe and efficient flow of air traffic in the Fort Lauderdale, FL area.

History

The FAA published a NPRM for Docket No. FAA-2024-0053 in the Federal Register (89 FR 27691; April 18, 2024) proposing to amend the FLL, Class C airspace. Interested parties were invited to participate in this rulemaking effort by submitting written comments on the proposal. Ten comments were received.

Discussion of Comments

The FAA received nine comments supporting the amendment of the Fort Lauderdale-Hollywood International Airport Class C airspace. One comment was received that was outside of the scope of this rulemaking.

Differences From the NPRM

Subsequent to publication of the NPRM, the FAA identified inconsistent boundary area language used in the Area A, B, D, E, F, and G descriptions to describe boundaries aligned with either Oakland Park Boulevard or Hollywood Boulevard. This action makes minor editorial amendments to clearly indicate the affected area description boundaries alignment with the roads by inserting the words “aligned with” to each description referencing the roads.

In the Area A description, “(the eastern most portion of Oakland Park Boulevard located in Lauderdale Beach)” is changed to read “(aligned with the easternmost portion of Oakland Park Boulevard located in Lauderdale Beach)”; and “(the eastern most portion of Hollywood Boulevard located in Hollywood)” is changed to read “(aligned with the easternmost portion of Hollywood Boulevard located in Hollywood).” In the Area B description, “(the eastern most portion of Oakland Park Boulevard located in Lauderdale Beach)” is changed to read “(aligned with the easternmost portion of Oakland Park Boulevard located in Lauderdale Beach).” In the Area D description, “(the eastern most portion of Hollywood Boulevard located in Hollywood)” is changed to read “(aligned with the easternmost portion of Hollywood Boulevard located in Hollywood).” In the Area E description, “(the eastern most portion of Oakland Park Boulevard located in Lauderdale Beach)” is changed to read “(aligned with the easternmost portion of Oakland Park Boulevard located in Lauderdale Beach).” In the Area F description, “(the eastern most portion of Hollywood Boulevard located in Hollywood)” is changed to read “(aligned with the easternmost portion of Hollywood Boulevard located in Hollywood)”; and “(the eastern most portion of Oakland Park Boulevard located in Lauderdale Beach)” is changed to read “(aligned with the easternmost portion of Oakland Park Boulevard located in Lauderdale Beach).” In the Area G description, “(the eastern most portion of Oakland Park Boulevard located in Lauderdale Beach)” is changed to read “(aligned with the easternmost portion of Oakland Park Boulevard located in Lauderdale Beach)”; and “(the eastern most portion of Hollywood Boulevard located in Hollywood)” is changed to read “(aligned with the easternmost portion of Hollywood Boulevard located in Hollywood).”

These minor editorial amendments are administrative and do not affect the airspace boundaries or operating requirements.

Incorporation by Reference

Class C airspace designations are published in paragraph 4000 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. This amendment will be published in the next update to FAA Order JO 7400.11.

FAA Order JO 7400.11J lists Class A, B, C, D, and E airspace areas, air traffic service routes, and reporting points.

The Rule

This action amends 14 CFR part 71 by updating the FLL, Class C airspace description as published in FAA Order JO 7400.11J, Airspace Designations and Reporting Points (see the attached chart).

The FAA subdivides Area E of the FLL Class C airspace into two areas along a line extending between lat. 26°05′22″ N, long. 080°26′02″ W and lat. 26°01′38″ N, long. 080°23′44″ W. The portion of Area E northeast of this subdivision boundary remains with a floor of 1,500 feet MSL and a ceiling of 4,000 feet MSL. The FAA creates a new area southwest of the subdivision boundary with a floor of 2,600 feet MSL and a ceiling of 4,000 feet MSL. This new area is referred to as “Area H”. As amended, Area E extends upward from 1,500 feet MSL to 4,000 feet MSL, and Area H extends upward from 2,600 feet MSL to 4,000 feet MSL. Additionally, the FAA adds an exclusion to Area H that excludes the overlying Miami Class B airspace from Area H. When flying either below the floor or above the ceiling of Area H, pilots are not required to contact air traffic control.

The FAA also makes a minor correction to the first line of the description's text header, listing just the city and state location of the airport. This change follows the FAA's current airspace description formatting requirements.

The FAA further makes a technical amendment to a geographic coordinate in the description of Area E. This minor amendment to the geographic coordinate more accurately describes the intersection of where Area E meets U.S. Route 27. Updating this coordinate does not change the boundary of Area E, but rather increases the accuracy of the road due to digital precision survey. The geographic coordinate is amended from “lat. 26°06′02″ N, long. 080°26′27″ W.” to “lat. 26°05′22″ N, long. 080°26′02″ W.”

Additionally, the FAA makes a minor editorial change to the Area C description to clarify that Area C excludes the overlying Miami Class B airspace.

Regulatory Notices and Analyses

The FAA considers the impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $183 million using the most current (2023) Implicit Price Deflator for the Gross Domestic Product. This portion of the preamble presents the FAA's analysis of the economic impacts of this rule.

In conducting these analyses, the FAA has determined that this rule: will have a minimal cost impact; is not a “significant regulatory action” as defined in section 3(f)(1) of Executive Order 12866 as amended by Executive Order 14094; will not have a significant economic impact on a substantial number of small entities; will not create unnecessary obstacles to the foreign commerce of the United States; and will not impose an unfunded mandate on State, local, or tribal governments, or the private sector.

This final rule made minor editorial changes to the airspace description and clarified the description of Area C. These amendments are administrative and have no economic impact on the industry. In addition, the FAA created the new “Area H” southwest of the existing Area E with a floor of 2,600 feet MSL and a ceiling of 4,000 feet MSL. The remaining Area E continues to extend upward from 1,500 feet MSL to 4,000 feet MSL. The new Area H modification to the FLL Class C does not diminish the level of safety for aircraft. The FAA believes the final rule will increase safety and enable more efficient operations for non-participating aircraft operations at HWO. Currently, pilots must fly outside of the existing Area E to avoid communication with the air traffic controller. By doing so, they compete for a small strip of airspace to the south of the existing Area E. The new Area H will provide more airspace for non-participating pilots to remain outside of the FLL Class C airspace where they are not required to contact air traffic control. However, air traffic control services such as traffic advisories and safety alerts are still available to aircraft in that airspace if a pilot chooses to contact air traffic control.

Regulatory Flexibility Act

The Regulatory Flexibility Act of 1980 (Pub. L. 96-354) (RFA) establishes “as a principle of regulatory issuance that agencies shall endeavor, consistent with the objectives of the rule and applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines it will, it must prepare a regulatory flexibility analysis as described in the RFA. However, if an agency determines that a rule is not expected to have a significant economic impact on a substantial number of small entities, section 605(b) of the RFA provides that the head of the agency may so certify, and a regulatory flexibility analysis is not required. The certification must include a statement providing the factual basis for this determination, and the reasoning should be clear.

This final rule made minor editorial changes to the airspace description and clarified the description of Area C. In addition, the FAA created the new “Area H” southwest of the existing Area E with a floor of 2,600 feet MSL and a ceiling of 4,000 feet MSL. The FAA is taking this action to increase safety and enable more efficient operations for non-participating aircraft operations at HWO. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it should improve safety and is consistent with the Trade Agreements Act. The FAA has assessed the potential impact of this final rule and determined that it will improve safety and is consistent with the Trade Agreements Act.

Unfunded Mandates Assessment

The Unfunded Mandates Reform Act of 1995 (2 U.S.C. 1531-1538) governs the issuance of Federal regulations that require unfunded mandates. An unfunded mandate is a regulation that requires a state, local, or tribal government or the private sector to incur direct costs without the Federal government having first provided the funds to pay those costs. The FAA determined that the final rule will not result in the expenditure of $183 million or more by State, local, or tribal governments, in the aggregate, or the private sector, in any year. This final rule does not contain such a mandate; therefore, the Act does not apply.

Paperwork Reduction Act

The Paperwork Reduction Act of 1995 (44 U.S.C. 3507(d)) requires that the FAA consider the impact of paperwork and other information collection burdens imposed on the public. The FAA has determined that this final rule has no new information collection requirement.

Environmental Review

The FAA has determined that this action of amending Class C airspace at FLL qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 4000 Class C Airspace.

* * * * *

ASO FL C Fort Lauderdale, FL [Amended]

Fort Lauderdale-Hollywood International Airport, FL

(Lat. 26°04′18″ N, long. 080°08′59″ W)

Boundaries.

Area A. That airspace extending upward from the surface to and including 4,000 feet MSL within a 7 nautical mile radius of Fort Lauderdale-Hollywood International Airport, excluding the airspace north of lat. 26°10′03″ N, (aligned with the easternmost portion of Oakland Park Boulevard located in Lauderdale Beach), and bounded on the south by a 15 nautical mile radius of Miami International Airport, and on the southeast by lat. 26°00′39″ N, (aligned with the easternmost portion of Hollywood Boulevard located in Hollywood).

Area B. That airspace extending upward from 1,200 feet MSL to and including 4,000 feet MSL beginning at a point northwest of Fort Lauderdale-Hollywood International Airport at the intersection of a 7 nautical mile radius of Fort Lauderdale-Hollywood International Airport and lat. 26°10′03″ N, thence moving west along lat. 26°10′03″ N, (aligned with the easternmost portion of Oakland Park Boulevard located in Lauderdale Beach), to a point that intersects State Road 869/Sawgrass Expressway, thence moving south along State Road 869/Sawgrass Expressway, [continuing south across the intersection of State Road 869/Sawgrass Expressway, Interstate 595, and Interstate 75], and continuing south along Interstate 75 to a point that intersects a 15 nautical mile radius of Miami International Airport, thence moving clockwise along the 15 nautical mile radius to a point that intersects the 7 nautical mile radius of Fort Lauderdale-Hollywood International Airport, thence moving clockwise along the 7 nautical mile radius to the point of beginning.

Area C. That airspace extending upward from 3,000 feet MSL to and including 4,000 feet MSL, excluding the airspace within the Miami, FL, Class B airspace area, within an area bounded on the north by lat. 26°13′53″ N, (aligned with the eastern portion of Atlantic Boulevard located in Pompano Beach), on the west by a 25 nautical mile radius of Fort Lauderdale-Hollywood International Airport, on the south by lat. 25°57′48″ N, on the southeast by a 15 nautical mile radius of Miami International Airport, and on the east by U.S. Route 27.

Area D. That airspace extending upward from 3,000 feet MSL to and including 4,000 feet MSL within an area bounded on the north by lat. 26°13′53″ N, (aligned with the eastern portion of Atlantic Boulevard located in Pompano Beach), on the east by a 25 nautical mile radius of Fort Lauderdale-Hollywood International Airport, on the south by lat. 26°00′39″ N, (aligned with the easternmost portion of Hollywood Boulevard located in Hollywood), and on the west by a 20 nautical mile radius of Fort Lauderdale-Hollywood International Airport.

Area E. That airspace extending upward from 1,500 feet MSL to and including 4,000 feet MSL within an area bounded on the north by lat. 26°10′03″ N, (aligned with the easternmost portion of Oakland Park Boulevard located in Lauderdale Beach), on the east by the north-south portion of Interstate 75 and State Road 869/Sawgrass Expressway, on the south by a 15 nautical mile radius of Miami International Airport, between Interstate 75/State Road 869/Sawgrass Expressway and lat. 26°01′38″ N, long. 080°23′44″ W, on the southwest by a line extending from lat. 26°01′38″ N, long. 080°23′44″ W, to lat. 26°05′22″ N, long. 080°26′02″ W, and on the west by a line beginning at lat. 26°05′22″ N, long. 080°26′02″ W, and follows U.S. Route 27 north to the point of beginning.

Area F. That airspace extending upward from 2,500 feet MSL to and including 4,000 feet MSL beginning northwest of Fort Lauderdale-Hollywood International Airport at a point that intersects U.S. Route 27 and lat. 26°13′53″ N, (aligned with the eastern portion of Atlantic Boulevard located in Pompano Beach), thence moving east along lat. 26°13′53″ N, to a point that intersects a 20 nautical mile radius of Fort Lauderdale-Hollywood International Airport, thence moving clockwise along the 20 nautical mile radius to a point that intersects lat. 26°00′39″ N, (aligned with the easternmost portion of Hollywood Boulevard located in Hollywood), thence moving west to a point that intersects a 15 nautical mile radius of Fort Lauderdale-Hollywood International Airport, thence moving counter-clockwise along the 15 nautical mile radius to a point that intersects lat. 26°10′03″ N, (aligned with the easternmost portion of Oakland Park Boulevard located in Lauderdale Beach), thence moving west along lat. 26°10′03″ N, to a point that intersects U.S. Route 27, thence moving north along U.S. Route 27 to the point of beginning.

Area G. That airspace extending upward from 1,200 feet MSL to and including 4,000 feet MSL beginning northeast of Fort Lauderdale-Hollywood International Airport at a point that intersects a 7 nautical mile radius of Fort Lauderdale-Hollywood International Airport and lat. 26°10′03″ N, (aligned with the easternmost portion of Oakland Park Boulevard located in Lauderdale Beach), thence moving clockwise along the 7 nautical mile radius to a point that intersects lat. 26°00′39″ N, (aligned with the easternmost portion of Hollywood Boulevard located in Hollywood), thence moving east along lat. 26°00′39″ N, to a point that intersects a 15 nautical mile radius of Fort Lauderdale-Hollywood International Airport, thence moving counter-clockwise along the 15 nautical mile radius to a point that intersects lat. 26°10′03″ N, thence moving west along lat. 26°10′03″ N, to the point of beginning.

Area H. That airspace extending upward from 2,600 feet MSL to and including 4,000 feet MSL, excluding the airspace within the Miami, FL, Class B airspace area. The area is bounded on the west by the north-south portion of U.S. Route 27 beginning at the intersection of a 15 nautical mile radius of Miami International Airport to lat. 26°05′22″ N, long. 080°26′02″ W, on the east by a line beginning at lat. 26°05′22″ N, long. 080°26′02″ W, moving southeast to lat. 26°01′38″ N, long. 080°23′44″ W, and on the south by a 15 nautical mile radius from Miami International Airport between lat. 26°01′38″ N, long. 080°23′44″ W and U.S. Route 27.

* * * * *

BILLING CODE 4910-13-P

Issued in Washington, DC, on September 16, 2024.
Frank Lias,
Manager, Rules and Regulations Group.

[FR Doc. 2024-21465 Filed 9-19-24; 8:45 am]

BILLING CODE 4910-13-C